DEPARTMENT OF ENERGY

Federal Energy Regulatory Commission

[Project No. 14856-000]

America First Hydro, LLC; Notice of Intent To File License Application, Filing of Pre-Application Document (PAD), Denying Use of the Traditional Licensing Process, Commencement of Licensing Proceeding, Scoping, and Solicitation of Study Requests and Comments on the PAD and Scoping Document

a. Type of Filing: Notice of Request To Use the Traditional Licensing Process.

b. Project No.: 14856.

c. Dated Filed: September 11, 2017.

d. Submitted By: America First Hydro, LLC (America First Hydro).

e. Name of Project: Lower Mousam Project.

f. Location: On the Mousam River in York County, Maine. The project does not occupy federal land.

g. Filed Pursuant to: 18 CFR 5.3 of the Commission's Regulations.

h. Potential Applicant Contact: Ian Clark, Managing Member, America First Hydro, LLC; 826 Scarsdale Ave, Scarsdale, New York 10583, (914) 297-7645, or email at info@dichotomycapital.com.

i. FERC Contact: Michael Watts at (202) 502-6123, or email at michael.watts@ferc.gov.

j. The current license for the Lower Mousam Project was issued to Kennebunk Light and Power District (Kennebunk Light) under Project No. 5362. On March 29, 2017, Kennebunk Light filed a notice stating that it does not intend to file an application for a subsequent license. In response to a solicitation issued by the Commission on May 15, 2017, America First Hydro filed a notice of intent to file an application for a license for the Lower Mousam Project and a Pre-Application Document (PAD), pursuant to 18 CFR 5.5 and 5.6 of the Commission's regulations. The licensing proceeding is commencing under Project No. 14856.

k. America First Hydro filed a request to use the Traditional Licensing Process (TLP) on September 11, 2017, which the Commission denied on October 31, 2017. America First Hydro must use the Integrated Licensing Process to prepare a license application for the Lower Mousam Project.

l. Cooperating agencies: Federal, state, local, and tribal agencies with jurisdiction and/or special expertise with respect to environmental issues that wish to cooperate in the preparation of the environmental document should follow the instructions for filing such requests described in item o below. Cooperating agencies should note the Commission's policy that agencies that cooperate in the preparation of the environmental document cannot also intervene. See 94 FERC ¶ 61,076 (2001).

m. With this notice, we are initiating informal consultation with: (a) The U.S. Fish and Wildlife Service and NOAA Fisheries under section 7 of the Endangered Species Act and the joint agency regulations thereunder at 50 CFR, part 402; (b) NOAA Fisheries under section 305(b) of the Magnuson-Stevens Fishery Conservation and Management Act and implementing regulations at 50 CFR 600.920; and (c) the Maine State Historic Preservation Officer, as required by section 106, National Historic Preservation Act, and the implementing regulations of the Advisory Council on Historic Preservation at 36 CFR 800.2.

n. A copy of the PAD is available for review at the Commission in the Public Reference Room or may be viewed on the Commission's Web site (http://www.ferc.gov), using the “eLibrary” link. Enter the docket number, excluding the last three digits in the docket number field to access the document. For assistance, contact FERC Online Support at FERCOnlineSupport@ferc.gov, (866) 208-3676 (toll free), or (202) 502-8659 (TTY). A copy is also available for inspection and reproduction at the address in paragraph h.

Register online at http://www.ferc.gov/docs-filing/esubscription.asp to be notified via email of new filing and issuances related to this or other pending projects. For assistance, contact FERC Online Support.

o. With this notice, we are soliciting comments on the PAD and Commission staff's Scoping Document 1 (SD1), as well as study requests. All comments on the PAD and SD1, and study requests should be sent to the address above in paragraph h. In addition, all comments on the PAD and SD1, study requests, requests for cooperating agency status, and all communications to and from Commission staff related to the merits of the potential application must be filed with the Commission.

The Commission strongly encourages electronic filing. Please file all documents using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov. In lieu of electronic filing, please send a paper copy to: Secretary, Federal Energy Regulatory Commission, 888 First Street NE., Washington, DC 20426. The first page of any filing should include docket number P-14856-000.

All filings with the Commission must bear the appropriate heading: “Comments on Pre-Application Document,” “Study Requests,” “Comments on Scoping Document 1,” “Request for Cooperating Agency Status,” or “Communications to and from Commission Staff.” Any individual or entity interested in submitting study requests, commenting on the PAD or SD1, and any agency requesting cooperating status must do so within 60 days of the issuance date of this notice.

p. At this time, the Commission intends to prepare an environmental assessment (EA).

Scoping Meetings

Commission staff will hold two scoping meetings in the vicinity of the project at the time and place noted below. The daytime meeting will focus on resource agency, Indian tribes, and non-governmental organization concerns, while the evening meeting is primarily for receiving input from the public. We invite all interested individuals, organizations, and agencies to attend one or both of the meetings, and to assist staff in identifying particular study needs, as well as the scope of environmental issues to be addressed in the environmental document. The times and locations of these meetings are as follows:

Daytime Scoping Meeting

Date: Monday, December 11, 2017.

Time: 1:00 p.m.

Location: Kennebunk Town Hall Auditorium, 1 Summer Street, Kennebunk, ME 04043.

Phone: (207) 985-3311.

Evening Scoping Meeting

Date: Monday, December 11, 2017.

Time: 6:00 p.m.

Location: Kennebunk Town Hall Auditorium, 1 Summer Street, Kennebunk, ME 04043.

Phone: (207) 985-3311.

Scoping Document 1 (SD1), which outlines the subject areas to be addressed in the environmental document, was mailed to the individuals and entities on the Commission's mailing list. Copies of SD1 will be available at the scoping meetings, or may be viewed on the web at http://www.ferc.gov, using the “eLibrary” link. Follow the directions for accessing information in item n above. Based on all oral and written comments, a Scoping Document 2 (SD2) may be issued. SD2 may include a revised process plan and schedule, as well as a list of issues, identified through the scoping process.

Environmental Site Review

The potential applicant, the existing licensee, and Commission staff will conduct an Environmental Site Review of the project on Tuesday, December 12, 2017, starting at 9:00 a.m. All participants should meet in the parking lot, located next to the Kesslen Dam on Berry Court Road, Kennebunk, ME 04043. All participants are responsible for their own transportation. Anyone with questions about the site visit should contact Mr. Todd Shea of Kennebunk Light and Power District at (207) 985-3311 on or before December 12, 2017.

Meeting Objectives

At the scoping meetings, staff will: (1) Initiate scoping of the issues; (2) review and discuss existing conditions and resource management objectives; (3) review and discuss existing information and identify preliminary information and study needs; (4) review and discuss the process plan and schedule for pre-filing activity that incorporates the time frames provided for in Part 5 of the Commission's regulations and, to the extent possible, maximizes coordination of federal, state, and tribal permitting and certification processes; and (5) discuss the appropriateness of any federal or state agency or Indian tribe acting as a cooperating agency for development of an environmental document.

Meeting participants should come prepared to discuss their issues and/or concerns. Please review the PAD in preparation for the scoping meetings. Directions on how to obtain a copy of the PAD and SD1 are included in item n of this document.

Meeting Procedures

The meetings will be recorded by a stenographer and will be placed in the public records of the project.

Dated: November 8, 2017.
Nathaniel J. Davis, Sr.,
Deputy Secretary.

[FR Doc. 2017-24793 Filed 11-15-17; 8:45 am]

BILLING CODE 6717-01-P